DEPARTMENT OF HEALTH AND HUMAN SERVICES

Consumer Health IT Pledge Program

AGENCY: Office of the National Coordinator for Health Information Technology, HHS.

ACTION: Notice of availability for Consumer Health IT Pledge Program.

SUMMARY: The U.S. Department of Health & Human Services' Office of the National Coordinator for Health Information Technology (ONC) is leading a national campaign to educate and engage the public on the value and benefits of health information technology (health IT) in improving health and health care. As part of the campaign, we encourage entities that touch Americans' lives to pledge to empower individuals to be partners in their health through health IT. There are two types of pledges: One for those who manage or maintain individually identifiable health data (e.g., providers, hospitals, payers, retail pharmacies) and another for those who do not manage or maintain consumer health data, but have the ability to educate consumers about the importance of getting access to and using their health information (e.g., employers, consumer and disease-based organizations, healthcare associations, product developers).

Taking the pledge is voluntary, and does not represent any endorsement by the U.S. Department of Health and Human Services or any other part of the federal government.

To learn more about the details of the pledge, please visit: http://www.healthit.gov/pledge.

Notice of this schedule is given under the American Recovery and Reinvestment Act of 2009 (Pub. L. 111-5), section 3003.

Dated: September 9, 2011.
Jodi Daniel,
Office of Policy and Planning, Office of the National Coordinator for Health Information Technology.

[FR Doc. 2011-23889 Filed 9-16-11; 8:45 am]

BILLING CODE 4150-45-P